ENVIRONMENTAL PROTECTION AGENCY

[FRL OP-OFA-036]

Environmental Impact Statements; Notice of Availability

Responsible Agency: Office of Federal Activities, General Information 202-564-5632 or https://www.epa.gov/nepa.

Weekly receipt of Environmental Impact Statements (EIS)

Filed September 12, 2022 10 a.m. EST Through September 19, 2022 10 a.m. EST

Pursuant to 40 CFR 1506.9.

Notice: Section 309(a) of the Clean Air Act requires that EPA make public its comments on EISs issued by other Federal agencies. EPA's comment letters on EISs are available at: https://cdxapps.epa.gov/cdx-enepa-II/public/action/eis/search.

EIS No. 20220135, Final, FERC, LA, Line 200 and Line 300 Project, Review Period Ends: 10/24/2022, Contact: Office of External Affairs 1-866-208-3372.

EIS No. 20220136, Draft, FERC, LA, Venice Extension Project, Comment Period Ends: 11/07/2022, Contact: Office of External Affairs 866-208-3372.

EIS No. 20220137, Final, USACE, LA, Proposed Mid-Barataria Sediment Diversion Project in Plaquemines Parish, Louisiana, Review Period Ends: 10/24/2022, Contact: Brad Laborde 504-862-2225.

Dated: September 19, 2022.
Cindy S. Barger,
Director, NEPA Compliance Division, Office of Federal Activities.

[FR Doc. 2022-20646 Filed 9-22-22; 8:45 am]

BILLING CODE 6560-50-P